DEPARTMENT OF JUSTICE

Notice of Lodging of Consent Decree Under the Comprehensive Environmental Response, Compensation, and Liability Act

Notice is hereby given that on November 22, 2005, a proposed Consent Decree (“Consent Decree”) in United States v. Summit Equipment & Supplies, Inc., et al., Civil Action No. 5:90CV1704, was lodged with the United States District Court for the Northern District of Ohio, Eastern Division.

In this action, the United States sought to recover response costs incurred by the United States at or in connection with the Summit Equipment & Supplies, Inc. Superfund Site (the “Site”) in Akron, Ohio, against alleged generators of hazardous waste disposed of at the Site, pursuant to Sections 107 and 113 of the Comprehensive Environmental Response, Compensation, and Liability Act (“CERCLA”), 42 U.S.C. 9607, 9613. The United States sought to recover response costs incurred at or in connection with the Site on behalf of the Administrator of the United States Environmental Protection Agency (“EPA”) and the United States Defense Logistics Agency (“DLA”), an agency within the United States Department of Defense. Since July 1991, DLA has been performing the response action at the Site pursuant to an Administrative Order by Consent (“AOC”) with EPA under sections 104 and 106 of CERCLA, 42 U.S.C. 9604 and 9606.

The Consent Decree would resolve the United States' claims for past and future response costs with regard to the Site against Settling Defendants through a reimbursement to the Superfund of a portion of the response costs incurred or to be incurred by the United States at or in connection with the Site. Settling Defendants would collectively pay a total of $1.36 million in reimbursement for response costs that EPA has incurred at or in connection with the Site. (Each Settling Defendant's individual payment is listed in Appendix A to the Consent Decree). As a condition of settlement, Settling Defendants would relinquish all claims or causes of action with respect to the Site against the United States, including DLA, and would waive all affirmative CERCLA claims or causes of action that they may have against any person. In return, the Settling Defendants would receive contribution protection and a covenant not to sue from the United States for the work at the Site as well as past and future response costs, subject to certain reservations of rights. DLA would pay $1.48 million in reimbursement for past response costs incurred by EPA, its remaining obligations under the AOC would terminate, and EPA would assume responsibility for completing the remaining clean up of the Site. DLA also would receive contribution protection.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Summit Equipment & Supplies, Inc., et al., Civil Action No. 5:90CV1704, D.J. Ref. 90-11-3-633 and 90-11-3-633/2.

The Consent Decree may be examined at the Office of the United States Attorney, 801 West Superior Avenue, Suite 400, Cleveland, Ohio 44113-1852, and at U.S. EPA Region 5, 77 West Jackson Boulevard, 14th Floor, Chicago, Illinois. During the public comment period, the Consent Decree, may also be examined on the following Department of Justice Web site, http://www/usdoj.gov/enrd/open.html. A copy of the Consent Decree may also be obtained by mail from the Consent Decree Library, P.O. Box 7611, U.S. Department of Justice, Washington, DC 20044-7611 for by faxing or e-mailing a request to Tonia Fleetwood (tonia.fleetwood@usdoj.gov), fax no. (202) 514-0097, phone confirmation number (202) 514-1547. In requesting a copy from the Consent Decree Library, please enclose a check in the amount of $12.75 (25 cents per page reproduction cost) payable to the U.S. Treasury.

William D. Brighton,
Assistant Chief, Environmental Enforcement Section, Environment and Natural Resources Division.

[FR Doc. 05-24037 Filed 12-13-05; 8:45 am]

BILLING CODE 4410-15-M